DEPARTMENT OF COMMERCE

Foreign-Trade Zones Board

[Order No. 1105]

Expansion of Foreign-Trade Zone 26; Atlanta, GA Area

Pursuant to its authority under the Foreign-Trade Zones Act of June 18, 1934, as amended (19 U.S.C. 81a-81u), the Foreign-Trade Zones Board (the Board) adopts the following Order:

Whereas, the Georgia Foreign-Trade Zone, Inc., grantee of Foreign-Trade Zone 26 (Atlanta, Georgia), submitted an application to the Board for authority to expand FTZ 26 to include a site at the Canton-Cherokee County Business and Industrial Park located in Canton, Georgia (Site 3), adjacent to the Atlanta Customs port of entry (FTZ Docket 59-99; filed 11/23/99);

Whereas, notice inviting public comment was given in the Federal Register (64 FR 67844, 12/3/99) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 26 is approved, subject to the Act and the Board's regulations, including Section 400.28, and further subject to the Board's standard 2,000-acre activation limit.

Signed at Washington, DC, this 21st day of June 2000.
Troy H. Cribb,
Acting Assistant Secretary of Commerce for Import Administration, Alternate Chairman, Foreign-Trade Zones Board.

Attest:

Pierre V. Duy,
Acting Executive Secretary.

[FR Doc. 00-16376 Filed 6-27-00; 8:45 am]

BILLING CODE 3510-DS-P